NATIONAL FOUNDATION ON THE ARTS AND THE HUMANITIES

National Endowment for the Arts

National Council on the Arts 210th Meeting

AGENCY: National Endowment for the Arts, National Foundation on the Arts and Humanities.

ACTION: Notice of meeting.

SUMMARY: Pursuant to the Federal Advisory Committee Act, as amended, notice is hereby given that a meeting of the National Council on the Arts will be held open to the public for in-person attendance as well as by videoconference. Additional sessions will be closed to the public for reasons stated below.

DATES: See the SUPPLEMENTARY INFORMATION section for meeting time and date. The meeting is located in Central Daylight time and the ending time is approximate.

ADDRESSES: The National Endowment for the Arts, Constitution Center, 400 Seventh Street SW, Washington, DC 20560. Public portions of this meeting will be held in-person and by videoconference at the location specified in the SUPPLEMENTARY INFORMATION section of this notice. Please see arts.gov for the most up-to-date information.

FOR FURTHER INFORMATION CONTACT: Liz Auclair, Office of Public Affairs, National Endowment for the Arts, Washington, DC 20506, at 202-682-5744.

SUPPLEMENTARY INFORMATION: The meeting will take place on June 21, 22, and 23, 2023 in New Orleans, LA. The meeting on June 23, 2023, from 9:30 a.m. to 1:30 p.m., will be open to the public. If, in the course of the open session discussion, it becomes necessary for the Council to discuss non-public commercial or financial information of intrinsic value, the Council will go into closed session pursuant to subsection (c)(4) of the Government in the Sunshine Act, 5 U.S.C. 552b, and in accordance with the March 11, 2022 determination of the Chair. Additionally, discussion concerning purely personal information about individuals, such as personal biographical and salary data or medical information, may be conducted by the Council in closed session in accordance with subsection (c)(6) of 5 U.S.C. 552b. Meeting sessions that occur on June 21 and June 22, 2023 will be closed to the public for the aforementioned reasons.

Detailed Meeting Information

Closed Session: June 21, 2023; 1:00 p.m. to 6:00 p.m. Location: Intercontinental Hotel, 444 St. Charles Avenue, New Orleans, LA 70130 followed by a site visit to a local arts venue.

Closed Session: June 22, 2023; 9:00 a.m. to 5:00 p.m. Location: Intercontinental Hotel, 444 St. Charles Avenue, New Orleans, LA 70130 followed by site visits to local arts venues.

Open Session: June 23, 2023; 11:00 a.m. to 1:30 p.m. Location: Please see arts.gov for the most up-to-date meeting location information. There will be opening remarks and voting on recommendations for grant funding and rejection, updates from NEA Chair Maria Rosario Jackson, and presentations or performances by area artists. This session will be held open to the public for in-person attendance and by videoconference. To view the webcasting of this open session of the meeting, go to: https://www.arts.gov/. If you need special accommodations due to a disability, please contact Beth Bienvenu, Office of Accessibility, National Endowment for the Arts, Constitution Center, 400 7th St. SW, Washington, DC 20506, 202/682-5733, Voice/T.T.Y. 202/682-5496, at least seven (7) days prior to the meeting.

Dated: June 2, 2023.
Daniel Beattie,
Director, Office of Guidelines and Panel Operations.

[FR Doc. 2023-12138 Filed 6-6-23; 8:45 am]

BILLING CODE 7537-01-P